DEPARTMENT OF COMMERCE

National Oceanic and Atmospheric Administration

[RTID 0648-XA026]

Pacific Fishery Management Council; Public Meeting

AGENCY: National Marine Fisheries Service (NMFS), National Oceanic and Atmospheric Administration (NOAA), Commerce.

ACTION: Notice of public meeting.

SUMMARY: The Pacific Fishery Management Council (Pacific Council) will convene a Stock Assessment Review (STAR) Panel meeting to review the 2020 Pacific sardine stock assessment.

DATES: The meeting will be held Monday, February 24, 2020 through Thursday, February 27, 2020. The meeting will start at 1 p.m. Pacific Standard Time on February 24, and 8:30 a.m. on each subsequent day. The meeting will continue until 5 p.m. each day or when business for the day has been completed.

ADDRESSES:

Meeting address: The meeting will be held in the Pacific Room at the NOAA Southwest Fisheries Science Center, 8901 La Jolla Shores Drive, La Jolla, CA 92037-1508.

Council address: Pacific Fishery Management Council, 7700 NE Ambassador Place, Suite 101, Portland, OR 97220-1384.

FOR FURTHER INFORMATION CONTACT: Kerry Griffin, Pacific Council; telephone: (503) 820-2409.

SUPPLEMENTARY INFORMATION: The primary purpose of the meeting is to review the 2020 benchmark stock assessment for Pacific sardine, which will be used to set annual harvest specifications and management measures for the fishing year beginning July 1, 2020 through June 30, 2021. The review panel will consist of three members of the Pacific Council's Scientific and Statistical Committee's Subcommittee on Coastal Pelagic Species (CPS), and two independent experts. Representatives of the Pacific Council's CPS Management Team and the CPS Advisory Subpanel will also participate in the review as advisers.

As a courtesy, the meeting will be broadcast via Webex in listen-only mode. Login information will be available in advance of the meeting on the Pacific Council website or by contacting Kerry Griffin (kerry.griffin@noaa.gov; (503) 820-2409).

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The public listening station is physically accessible to people with disabilities.

Requests for sign language interpretation or other auxiliary aids should be directed to Mr. Dale Sweetnam (dale.sweetnam@noaa.gov) at least 10 days prior to the meeting date.

Authority: 16 U.S.C. 1801 et seq.

Dated: January 28, 2020.
Tracey L. Thompson,
Acting Deputy Director, Office of Sustainable Fisheries, National Marine Fisheries Service.

[FR Doc. 2020-01874 Filed 1-30-20; 8:45 am]

BILLING CODE 3510-22-P